DEPARTMENT OF TRANSPORTATION

Federal Aviation Administration

Notice of Intent To Request Revision From the Office of Management and Budget of a Currently Approved Information Collection Activity, Request for Comments; Safe Disposition of Life-Limited Aircraft Parts

AGENCY: Federal Aviation Administration (FAA), DOT.

ACTION: Notice and request for comments.

SUMMARY: The FAA invites public comments about our intention to request the Office of Management and Budget (OMB) to approve a current information collection. This action responds to the Wendell H. Ford Investment and Reform Act for the 21st Century by requiring that all persons who remove any life-limited aircraft part have a method to prevent the installation of that part after it has reached its life limit.

DATES: Please submit comments by October 10, 2006.

FOR FURTHER INFORMATION CONTACT: Carla Mauney on (202) 267-9895, or by e-mail at: Carla.Mauney@faa.gov.

SUPPLEMENTARY INFORMATION:

Federal Aviation Administration (FAA)

Title: Safe Disposition of Life-Limited Aircraft Parts.

Type of Request: Revision of an approved collection.

OMB Control Number: 2120-0665.

Form(s): There are no FAA forms associated with this collection.

Affected Public: A total of 8,000 Respondents.

Frequency: The information is collected as needed.

Estimated Average Burden Per Response: Approximately 1.04 hours per response.

Estimated Annual Burden Hours: An estimated 104,000 hours annually.

Abstract: This action responds to the Wendell H. Ford Investment and Reform Act for the 21st Century by requiring that all persons who remove any life-limited aircraft part have a method to prevent the installation of that part after it has reached its life limit. This action reduces the risk of life limited parts being used beyond their life limits. This action would also require that manufacturers of life parts provide marking instructions, when requested.

ADDRESS: Send comments to the FAA at the following address: Ms. Carla Mauney, Room 1033, Federal Aviation Administration, Information Systems and Technology Services Staff, ABA-20, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on August 3, 2006.
Carla Mauney,
FAA Information Collection Clearance Officer, Information Systems and Technology Services Staff, ABA-20.

[FR Doc. 06-6860 Filed 8-10-06; 8:45 am]

BILLING CODE 4910-13-M